DEPARTMENT OF COMMERCE

National Oceanic and Atmospheric Administration

[RTID 0648-XB443]

Pacific Fishery Management Council; Public Meetings

AGENCY: National Marine Fisheries Service (NMFS), National Oceanic and Atmospheric Administration (NOAA), Commerce.

ACTION: Notice of public meetings.

SUMMARY: The Pacific Fishery Management Council's (Pacific Council) will hold an online meeting that is not open to the public.

DATES: The Pacific Council will meet online Tuesday, October 12, 2021, beginning at 8 a.m. Pacific Daylight Time (PDT). The meeting will consist only of a Closed Session to address the employment matter of hiring a new executive director. The Pacific Council will meet as late as necessary to complete its scheduled business.

ADDRESSES: The meeting of the Pacific Council will be by webinar only. Specific meeting information, including directions on joining the meeting will be provided only to Council members. Council members may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Chuck Tracy, Executive Director, Pacific Council; telephone: (503) 820-2415 or (866) 806-7204 toll-free.

SUPPLEMENTARY INFORMATION: The following items are on the Pacific Council agenda:

A. Call to Order

1. Opening Remarks

2. Roll Call

3. Approve Agenda

B. Employment Matters

1. Executive Director Selection Process

2. Candidate Interviews

3. Discussion and Action

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: September 20, 2021.
Tracey L. Thompson,
Acting Deputy Director, Office of Sustainable Fisheries, National Marine Fisheries Service.

[FR Doc. 2021-20595 Filed 9-22-21; 8:45 am]

BILLING CODE 3510-22-P